ADMINISTRATIVE CONFERENCE OF THE UNITED STATES

Notice of Public Meetings of Committees of the Administrative Conference of the United States

AGENCY: Administrative Conference of the United States.

ACTION: Notice of public meetings.

SUMMARY: Notice is hereby given of eleven public meetings of the Committee on Adjudication, Committee on Judicial Review, Committee on Regulation, and Committee on Rulemaking of the Assembly of the Administrative Conference of the United States. At these meetings, the committees will consider reports by Conference consultants and work on preparing recommendations. These meetings will be open to the public.

DATES: Committee on Adjudication: Wednesday, March 6, 2013 from 2:00 p.m. to 5:00 p.m.; Monday, April 8, 2013 from 2:00 p.m. to 5:00 p.m.; and Tuesday, April 30, 2013 from 2:00 p.m. to 5:00 p.m. Committee on Judicial Review: Tuesday, March 19, 2013 from 2:00 p.m. to 5:00 p.m.; Wednesday, April 3, 2013 from 2:00 p.m. to 5:00 p.m.; and Monday, April 22, 2013 from 2:00 p.m. to 5:00 p.m. Committee on Regulation: Monday, March 4, 2013, from 1:00 p.m. to 4:00 p.m.; Tuesday, April 2, 2013 from 1:00 p.m. to 4:00 p.m.; and Monday, April 29, 2013 from 1:00 p.m. to 4:00 p.m. Committee on Rulemaking: Monday, March 25, 2013 from 2:00 p.m. to 5:00 p.m. and Tuesday, April 23, 2013 from 9:30 a.m. to 12:30 p.m. Please note that the meetings may adjourn early, or, in the case of second or third meetings of respective committees, may be cancelled, if all business has been completed. Meeting updates will be posted on the Conference's Web site (www.acus.gov).

ADDRESSES: The meetings will be held at 1120 20th Street NW., Suite 702 South, Washington, DC 20036.

FOR FURTHER INFORMATION CONTACT: Amber Williams (Committee on Adjudication), awilliams@acus.gov; Stephanie Tatham (Committee on Judicial Review), statham@acus.gov; Reeve Bull (Committee on Regulation), rbull@acus.gov; or Emily Bremer (Committee on Rulemaking), ebremer@acus.gov; Designated Federal Officers, Administrative Conference of the United States, 1120 20th Street NW., Suite 706 South, Washington, DC 20036; Telephone 202-480-2080.

SUPPLEMENTARY INFORMATION: Additional information about the committee meetings, the nature of the projects and related materials, how to attend (including information about remote access and obtaining special accommodations for persons with disabilities), can be found on the “Research Projects” and “Meetings & Events” sections of the Conference's Web site (www.acus.gov).

Agendas: The committees will meet to consider reports by Conference consultants on current projects and prepare recommendations for consideration by the Assembly.

Committee on Adjudication: The Committee on Adjudication will meet to consider a draft report and recommendations on social security disability adjudication. The report, prepared by Professors Harold Krent and Scott Morris, presents findings and recommendations based on legal and empirical analysis of the Social Security Administration's adjudication of Social Security Disability Insurance (SSDI) and Supplemental Security Income (SSI) claims.

Committee on Judicial Review: The Committee on Judicial Review will meet to consider a draft report prepared by Leland Beck on the composition and compilation of administrative records prepared by federal agencies for use in informal agency regulatory proceedings and, if agency decisionmaking is challenged, for the purpose of review by federal courts. The committee will also consider draft recommendations based on this report.

Committee on Regulation: The Committee on Regulation will meet to discuss two projects. First, the committee will consider a revised report by Professor Wendy Wagner examining the use of science by administrative agencies, as well as a set of proposed recommendations, based in part on her work, which aim to enhance the transparency and integrity of agencies' scientific factfinding. The committees will also consider a draft report and recommendations related to benefit-cost analysis at independent regulatory agencies. The draft report, prepared by Curtis Copeland, chronicles the work of independent agencies to assess the benefits and costs related to their rulemakings and highlights certain practices related to economic analysis for consideration by these agencies.

Committee on Rulemaking: The Committee on Rulemaking will meet to consider a draft report and recommendations on the policy and legal issues implicated by agency use of social media to support rulemaking. The Conference's consultant for this project is Professor Michael Herz.

Public Participation: The Conference welcomes the public to attend committee meetings, subject to space limitations, and will make every effort to accommodate persons with disabilities. Persons wishing to attend in person are asked to RSVP online not later than two business days before the meeting. To RSVP, click on “Meetings & Events” on the main page of the Conference's Web site, and then click on the “RSVP” button for the appropriate committee meeting. The meetings will also be webcast live on the Conference's Web site and may be viewed by clicking the “View Meetings Live” button on the main page.

Written Comments: Persons who wish to submit comments related to these projects may do so by submitting an electronic statement through the Conference's Web site or by mail addressed to the appropriate committee at the Conference's office address listed above. To submit an electronic comment, click on “Meetings & Events” on the main page of the Conference's Web site, then click on the appropriate committee meeting, and select the “Submit a Comment” button.

Dated: February 11, 2013.
Shawne C. McGibbon,
General Counsel.

[FR Doc. 2013-03518 Filed 2-14-13; 8:45 am]

BILLING CODE 6110-01-P